DEPARTMENT OF AGRICULTURE

Office of Partnerships and Public Engagement

Advisory Committee on Minority Farmers

AGENCY: Office of Partnerships and Public Engagement, USDA.

ACTION: Notice of public meeting.

SUMMARY: Pursuant to the Federal Advisory Committee Act (FACA), the Office of Partnerships and Public Engagement (OPPE) is announcing a meeting of the Advisory Committee on Minority Farmers (ACMF). USDA Secretary Vilsack is committed to actions that enhance minority farmers' ability to produce and thrive as businesses through USDA's customer service enhancements, expanded outreach, technical assistance, and capacity building. To that end, the ACMF will likewise recommend action-oriented strategies for maximizing the participation of minority farmers by leveraging those programs that ensure a food secure nation and effectively steward our natural resources. These principals will usher in business growth and opportunity for those minority agricultural communities plagued with fragile economies in decline.

DATES: The ACMF meeting will begin on January 18-20, 2022, from 9:00 a.m.-5:00 p.m. Pacific Standard Time (PST). Time will be allotted at the end of each morning and afternoon for comments from those attending. Public participants may also view the committee proceedings and presentations via Zoom: https://ems8.intellor.com/login/846392. Meeting ID and passcode is not required. The call-in numbers and code for listening only access are:

US Toll Free: 888-251-2949

US Toll: 215-861-0694

Access Code: 2154 982#

All persons wishing to make comments during the in-person meeting must check-in each day at the registration table. If the number of registrants requesting to speak is greater than what can be reasonably accommodated during the scheduled open public hearing session timeframe, OPPE may conduct a lottery to determine the speakers for the scheduled public comment session.

Meeting Pre-Registration and Public Comments: The public is asked to pre-register for the meeting by January 17, 2023, at https://ems8.intellor.com/?do=register&t=1&p=846389. For pre-registrations, we request your name, organization or affiliation, and intent to give oral comments. Participants may also submit written comments for the committee's consideration via the pre-registration link (https://ems8.intellor.com/?do=register&t=1&p=846389). Written comments must be received by or before January 17, 2023.

Members of the public who sign up to give oral comments to the Committee will be allowed time according to the number of speakers scheduled for each morning and afternoon public comment period. Members joining virtually may also request permission to give oral comments and will be instructed by the conference moderator on when and how to make live comments. Please remember that the comments made during the meeting will be added to the committee record only. Direct engagement or exchanges with committee members is not permitted while the meeting is in session.

ADDRESSES: The meeting will be held at the University of California, at Davis' ARC Conference Center, 760 Orchard Road, Davis, CA 95616. Drivers are instructed to park in Lot 25. A searchable campus map may be accessed here: https://campusmap.ucdavis.edu/. Parking is available at nominal cost.

Accessibility: USDA is committed to ensuring that all persons are included in our programs and events. If you are a person with a disability and require reasonable accommodations to participate in this meeting, please contact Mr. Eston Williams at Eston.Williams@usda.gov or (202) 596-0226. Individuals who use telecommunication devices for the deaf (TDD) may call the Federal Information Relay Service (FIRS) at 1-800-877-8339 between 8:00 a.m. and 8:00 p.m., Eastern Standard Time, Monday through Friday.

Availability of Materials for the Meeting: Presentations to be delivered to the ACMF, including the final meeting agenda, and any updates regarding the meeting announced in this notice, can be found on the ACMF website at https://www.usda.gov/partnerships/advisory-committee-on-minority-farmers.

FOR FURTHER INFORMATION CONTACT: General information about the committee can also be found at https://www.usda.gov/partnerships/advisory-committee-on-minority-farmers. Any member of the public wishing to obtain information concerning this public meeting may contact Mr. Eston Williams, Designated Federal Officer (DFO) via email Eston.Williams@usda.gov or call (202) 596-0226.

SUPPLEMENTARY INFORMATION: The ACMF will be pivotal in its liaison role that both informs and advises the Secretary of actions that may be taken to support minority farming growth and assist them with challenges of today, as well as those they will face in coming years. During this public meeting, the ACMF will explore and consider challenges specific to minority rural farming communities, including but not limited to: (1) infrastructure and housing (e.g., Rural Development); (2) building economically viable, ecologically sound, and climate-smart farming and ranching (e.g., planning, building, and business expansion); (3) examining barriers to enhanced minority farmer and rancher participation in USDA programs, services and partnerships (e.g., Climate-Smart Commodities Funding); (4) addressing barriers to capital access, land acquisition, debt management (e.g., Farm Service Agency); (5) adverse economic impacts of farming and ranching risk management; and (6) examining barriers to broader participation in export markets.

From these topics, the ACMF will deliberate and form its next set of recommendations for the current term. The ACMF specifically seeks to engage and hear directly from a broad geographical cross-section of minority farmers on their experiences, pathways, and challenges as they contend with severe weather events or continued barriers of entry and economically sustainable farming. The USDA will also want to hear about personal experiences and encourage all to participate, including those organizations that support farmers from a large cross-section of farm type or size and ethnic diversity.

The Committee was established pursuant to section 14008 of the Food Conservation and Energy Act of 2008, Public Law 110-246, 122 Stat. 1651, 2008 (7 U.S.C. 2279), to ensure that socially disadvantaged farmers have equal access to USDA programs. The Secretary selected a diverse group of members representing a broad spectrum of persons chosen to recommend solutions to the challenges of minority farmers and ranchers, generally. The members also advise the Secretary on implementation of section 2501 of the Food, Agriculture, Conservation, and Trade Act of 1990 (the 2501 Program); maximizing the participation of minority farmers and ranchers in USDA programs; and civil rights activities within the Department relative to participants in its programs.

Dated: December 21, 2022.
Cikena Reid,
USDA Committee Management Officer.

[FR Doc. 2022-28237 Filed 12-27-22; 8:45 am]

BILLING CODE 3412-88-P